INTERNATIONAL TRADE COMMISSION

[Investigation No. 731-TA-1446 (Final)]

Sodium Sulfate Anhydrous From Canada

Determination

On the basis of the record ¹ developed in the subject investigation, the United States International Trade Commission (“Commission”) determines, pursuant to the Tariff Act of 1930 (“the Act”), that an industry in the United States is not materially injured or threatened with material injury, and the establishment of an industry in the United States is not materially retarded by reason of imports of sodium sulfate anhydrous from Canada, provided for in subheadings 2833.11.10 and 2833.11.50 of the Harmonized Tariff Schedule of the United States, that have been found by the U.S. Department of Commerce (“Commerce”) to be sold in the United States at less than fair value (“LTFV”).²

¹ The record is defined in sec. 207.2(f) of the Commission's Rules of Practice and Procedure (19 CFR 207.2(f)).

² 85 FR 17534 (March 30, 2020).

Background

The Commission instituted this investigation effective March 28, 2019, following receipt of a petition filed with the Commission and Commerce by Cooper Natural Resources, Inc., Fort Worth, Texas; Elementis Global LLC, East Windsor, New Jersey; and Searles Valley Minerals, Inc., Overland Park, Kansas. The Commission scheduled the final phase of the investigation following notification of a preliminary determination by Commerce that imports of sodium sulfate anhydrous from Canada were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of December 3, 2019 (84 FR 66218). In light of the restrictions on access to the Commission building due to the COVID-19 pandemic, and in accordance with 19 U.S.C. 1677c(a)(1), the Commission did not cancel its hearing scheduled for March 19, 2020, but conducted its hearing through a series of written questions, submissions of written testimony, written responses to questions, and posthearing briefs; all persons who requested the opportunity were permitted to participate.

The Commission made this determination pursuant to section 735(b) of the Act (19 U.S.C. 1673d(b)). It completed and filed its determination in this investigation on May 13, 2020. The views of the Commission are contained in USITC Publication 5050 (May 2020), entitled Sodium Sulfate Anhydrous from Canada: Investigation No. 731-TA-1446 (Final).

By order of the Commission.
Issued: May 13, 2020.
Lisa Barton,
Secretary to the Commission.

[FR Doc. 2020-10670 Filed 5-18-20; 8:45 am]

BILLING CODE 7020-02-P